DEPARTMENT OF THE INTERIOR

Minerals Management Service

Agency Information Collection Activities: Submitted for Office of Management and Budget (OMB) Review; Comment Request

AGENCY: Minerals Management Service (MMS), Interior.

ACTION: Notice of new information collection survey.

SUMMARY: To comply with the Paperwork Reduction Act of 1995 (PRA), we are submitting to OMB for review and approval an information collection request (ICR) to conduct a new survey on “Gulf of Mexico Labor Needs.” We are also soliciting comments from the public on this ICR.

DATE: Submit written comments by January 16, 2001.

ADDRESSES: You may submit comments directly to the Office of Information and Regulatory Affairs, OMB, Attention: Desk Officer for the Department of the Interior (1010-NEW), 725 17th Street, N.W., Washington, D.C. 20503. Mail or hand carry a copy of your comments to the Department of the Interior, Minerals Management Service, Attention: Rules Processing Team, Mail Stop 4024, 381 Elden Street; Herndon, Virginia 20170-4817.

Our practice is to make comments, including names and home addresses of respondents, available for public review during regular business hours. Individual respondents may request that we withhold their home address from the rulemaking record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. For details on the proposed survey or to obtain a copy of the survey questions, you may contact Harry Luton, in the MMS Gulf of Mexico Regional Office, telephone (504) 736-2784.

SUPPLEMENTARY INFORMATION: Title: Survey—Gulf of Mexico Labor Needs.

OMB Control Number: 1010-NEW.

Abstract: MMS is responsible for managing mineral resources on the Federal outer continental shelf (OCS). The National Environmental Policy Act (NEPA) of 1969, the Outer Continental Shelf Lands Act (OCSLA), as amended, the Coastal Zone Management Act (CZMA) of 1996, and the Endangered Species Act of 1973, require MMS to assess, mitigate, and monitor the effects of the OCS program on the environment.

The OCS oil and natural gas exploration and production industry impacts local and regional economies through many activities, including the demand for labor, the demand for services, and the demand for capital goods. Though thought to be in decline a decade ago, several mid-1990's changes have reinvigorated the industry. These include technical innovations such as three-and four-dimensional seismic surveys and subsurface completion systems that allow companies to operate in very deep water, as well as passage of the Deep Water Royalty Relief Act of 1995. This recent and unexpected growth has increased the significance and urgency of the need for MMS to obtain data on current Gulf of Mexico (GOM) OCS conditions and operating practices.

We propose to conduct a survey to collect and analyze information for use in MMS documents and management decisions. We will use the information within NEPA documents, with special emphasis on development in deep water. We will use the patterns and trends found in the data to support descriptions of how the GOM offshore oil and natural gas industry operates, how it resembles and differs from other regional markets, and what trends appear to be influencing its current direction. The OCSLA stipulates that MMS management of the OCS must include evaluations of the effects of industry activities on area resources. The CZMA policies on industrial and water use in the OCS affect many MMS decisions relating to planning, procedures, and interactions with industry, governments, and communities. The Endangered Species Act requires MMS to evaluate OCS activity and its affect on regional populations. The data collected through the proposed survey is necessary for MMS to successfully do each of these.

The information under the proposed data collection will be obtained by randomly sampling from the following eight populations: (1) Seismic companies; (2) platform and rig construction companies; (3) pipeline operating companies; (4) air transportation companies; (5) OCS field production operating companies; (6) employees from each of the previous sectors; (7) contracting organizations for operating companies; and (8) operating companies that have bid for a lease within the GOM. For the purposes of the proposed tests, an offshore employee “earns money by working in any of three segments “ operating companies, service and supply companies, and transportation companies. The offshore worker charges time directly to GOM activities.” The employee form will provide important economic information to supplement and cross check the industry data and will include demographic information to help characterize the economic effects of the program and the worker point of view concerning certain industry trends.

Questionnaire completion is voluntary. The questionnaires will be administered under the guidelines established under 45 CFR 46. Procedures designed to protect the confidentiality of the information provided will include the use of coded identification numbers to protect the identities of respondents and the businesses they represent. The final report will summarize data by geographic region, business type, or population category so that individual persons and companies will not be identifiable. Identifying information will be removed from data files.

We do not consider that the information requested in the proposed survey instruments necessitate a classification as Confidential Business Information. As stated, we will take efforts to ensure the anonymity of the collected data. As the test surveys are, and future surveys will be, voluntary, companies may choose not to respond to questions on proprietary information, but they can be assured that proprietary data will not be able to be associated with their company.

Frequency: This survey will be conducted once every 5 years.

Estimated Number and Description of Respondents: Estimated 6,338 respondents from the categories listed in the following chart.

Estimated Annual Reporting and Recordkeeping “Hour” Burden: Estimated 10,792 burden hours as described in the following chart.

Respondent | Total hour burden (divided by) | Predicted no. of respondents (equals) | Predicted hour burden per respondent
Seismic | 292.25 | 21 | 13.9
Platform/Rig Construction | 1,065.75 | 63 | 16.9
Pipeline Operators | 473.00 | 34 | 13.9
Air Transportation | 83.50 | 6 | 13.9
Operators | 2,667.00 | 126 | 21.2
Employees | 4,398.25 | 5,865 | 0.75
Contractors | 1,622.75 | 189 | 8.6
Bidders | 189.75 | 34 | 5.6
Total | 10,792.25 | 6,338

Estimated Annual Reporting and Recordkeeping “Non-Hour Cost” Burden: Beyond labor, the proposed information collection poses no cost burden to respondents. MMS will pay for all postage and telephone charges. Respondents will incur no capital and operation and maintenance costs.

Comments: The PRA (44 U.S.C. 3501, et seq.) provides that an agency may not conduct or sponsor, and a person is not required to respond to, a collection of information unless it displays a currently valid OMB control number. Section 3506(c)(2)(A) of the PRA requires each agency “. . . to provide notice . . . and otherwise consult with members of the public and affected agencies concerning each proposed collection of information . . .” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on July 31, 2000, we published a Federal Register notice (65 FR 46733) with the required 60-day comment period announcing that we would submit this ICR to OMB for approval. We received no comments in response to that initial notice. If you wish to comment in response to this notice, send your comments directly to the offices listed under the ADDRESSES section of this notice. The OMB has up to 60 days to approve or disapprove the information collection but may respond after 30 days. Therefore, to ensure maximum consideration, OMB should receive public comments by January 16, 2001.

MMS Information Collection Clearance Officer: Jo Ann Lauterbach, (202) 208-7744.

Dated: October 27, 2000.
John V. Mirabella,
Acting Chief, Engineering and Operations Division.

[FR Doc. 00-32005 Filed 12-14-00; 8:45 am]

BILLING CODE 4310-MR-U